DEPARTMENT OF HEALTH AND HUMAN SERVICES

Health Resources and Services Administration

Agency Information Collection Activities: Submission to OMB for Review and Approval; Public Comment Request; Ryan White HIV/AIDS Program Parts A and B Unobligated Balances and Rebate Addendum Tables, OMB No. 0906-xxxx—NEW

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than December 18, 2019.

ADDRESSES: Submit your comments, including the ICR Title, to the desk officer for HRSA, either by email to paperwork@hrsa.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Ryan White HIV/AIDS Program Parts A and B Unobligated Balances and Rebate Addendum Tables, OMB No. 0906-xxxx—NEW.

Abstract: HRSA's Ryan White HIV/AIDS Program (RWHAP) funds and coordinates with cities, states, territories, and local clinics/community-based organizations to deliver efficient and effective HIV care, treatment, and support to low-income people diagnosed with HIV. Nearly two-thirds of RWHAP clients (patients) live at or below 100 percent of the federal poverty level and approximately three-quarters of RWHAP clients are racial and ethnic minorities. Since 1990, the RWHAP has developed a comprehensive system of HIV service providers who deliver high quality direct health care and support services to over half a million people diagnosed with HIV—more than 50 percent of all people diagnosed with HIV in the United States.

Grant recipients funded under Parts A, B, C, and D of the RWHAP (codified under Title XXVI of the Public Health Service Act) are required to report financial data to HRSA at the beginning (Allocations Report) and at the end of each grant budget period (Expenditures Report) using the HRSA Electronic Handbooks (EHBs).ⁱ HRSA RWHAP Parts A and B collect unobligated balances (UOB) of federal funds and rebate addendum information by subprogram from their grant recipients. Parts A and B use the UOB and rebate addendum financial information to determine formula funding as directed by the RWHAP statute. These data were collected when grant recipients submitted their annual Federal Financial Report (FFR SF-425) in hard copy only, and were submitted to the individual HHS Operating Divisions. HRSA added UOB and rebate addendum tables after the FFR SF-425, using a suggested format through the HRSA EHBs. This financial information is collected in the same location to streamline the process for the grant recipients. The UOB and rebate addendum data tables will be collected in the HRSA EHBs below the FFR SF-425 control number and the Paperwork Burden Statement.

ⁱ The Allocations Report and the Expenditures Report were approved by OMB under the 0915-0318 control number.

A 60-day notice was published in the Federal Register on July 19, 2019, vol. 84, No. 139; pp. 34903-04. There were no public comments.

Need and Proposed Use of the Information: RWHAP Part A and Part B recipients currently complete the UOB and rebate addendum tables in a non-electronic form and upload them as attachments as a part of their FFR SF-425 submission. This new process will decrease administrative burden, increase transparency, and improve the quality of data submitted to HRSA. These UOB and rebate addendum tables are essential for allowing HRSA to ensure that RWHAP recipients are meeting the goal of accountability to Congress, clients, advocacy groups, and the general public. Information provided in the UOB and rebate addendum tables is critical for HRSA, states and territories, local clinics, and individual providers to evaluate the effectiveness of these programs.

Likely Respondents: HRSA RWHAP Parts A and B Recipients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Part A UOB Table | 52 | 1 | 52 | 0.5 | 26.0
Part B UOB Table | 59 | 1 | 59 | 0.5 | 29.5
| 111 |  | 111 |  | 55.5

Maria G. Button,
Director, Executive Secretariat.

[FR Doc. 2019-24911 Filed 11-15-19; 8:45 am]

BILLING CODE 4165-15-P